DEPARTMENT OF HOMELAND SECURITY

Coast Guard

33 CFR Part 117

[Docket No. USCG-2012-0444]

Drawbridge Operation Regulation; The Straights, Harkers Island, NC

AGENCY: Coast Guard, DHS.

ACTION: Notice of temporary deviation from regulations.

SUMMARY: The Commander, Fifth Coast Guard District, has issued a temporary deviation from the regulations governing the operation of the Route 70/Harkers Island Bridge across The Straights, at Harkers Island, NC. The deviation is necessary to facilitate maintenance to the bridge motor. This deviation allows the bridge to remain closed-to-navigation while the maintenance is conducted.

DATES: This deviation is effective from 9 a.m. on June 12, 2012 through 3 p.m. on June 13, 2012.

ADDRESSES: Documents mentioned in this preamble as being available in the docket USCG-2012-0444 and are available online by going to http://www.regulations.gov, inserting USCG-2012-0444 in the “Keyword” box and then clicking “Search”. This material is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. Jim Rousseau, Bridge Administration Branch, Fifth Coast Guard District; telephone 757-398-6557, email James.L.Rousseau2@uscg.mil. If you have questions on viewing the docket, call Renee V. Wright, Program Manager, Docket Operations, telephone 202-366-9826.

SUPPLEMENTARY INFORMATION: The North Carolina Department of Transportation (NCDOT) owns and operates the swing span of the Route 70/Harkers Island Bridge across The Straights, in Harkers Island, NC. The bridge has a vertical clearance in the closed position to vessels of 14 feet, above mean high water. The current operating regulations are outlined at 33 CFR 117.5, which require the bridge to open when a request or signal to open is given.

NCDOT has requested a temporary deviation to the existing regulations for the Route 70/Harkers Island Bridge to facilitate necessary repairs. The repairs consist of the maintenance to the bridge motor. Under this deviation, the swing span of the drawbridge will be maintained in the closed-to-navigation position from 9 a.m. on June 12, 2012, through 3 p.m. on June 13, 2012.

Bridge opening data, supplied by Harkers Island Bridge Tender and reviewed by the Coast Guard, revealed that the bridge opened for vessels on average 2 times in a 24 hour period during early June.

The Coast Guard will also inform the users of the waterway, through our Local and Broadcast Notices to Mariners, of the closure period so that vessels can arrange their transits to minimize any impact caused by the temporary deviation.

Vessels that can pass under the bridge without a bridge opening may continue to do so at anytime. There are several alternate routes available for vessels with mast heights greater than 14 feet. In the event of an emergency, the drawbridge will not be able to open for vessels.

In accordance with 33 CFR 117.35(e), the drawbridge must return to its regular operating schedule immediately at the end of the designated time period. This deviation from the operating regulation is authorized under 33 CFR 117.35.

Dated: May 22, 2012.
Waverly W. Gregory, Jr.,
Bridge Program Manager, Fifth Coast Guard District.

[FR Doc. 2012-13384 Filed 5-31-12; 8:45 am]

BILLING CODE 9110-04-P